DEPARTMENT OF HOUSING AND URBAN DEVELOPMENT

[Docket No. FR-5690-N-05]

Proposed Information Collection for Public Comment: Enterprise Income Verification (EIV) Systems—Access Authorization Form and Rules of Behavior and User Agreement

AGENCY: Office of the Assistant Secretary for Public and Indian Housing, HUD.

ACTION: Notice of proposed information collection.

SUMMARY: The proposed information collection requirement described below will be submitted to the Office of Management and Budget (OMB) for review, as required by the Paperwork Reduction Act. HUD is soliciting public comments on the subject proposal.

The Federal Privacy Act, 5 U.S.C. 552a, as amended, requires HUD to identify all individuals who access and use personally identifiable information (PII) maintained in HUD systems. This information collection identifies the individuals at public housing agencies that will access PII from HUD's Public and Indian Housing EIV System.

DATES: Comments Due Date: May 28, 2013.

ADDRESSES: Interested persons are invited to submit comments regarding this proposal. Comments should refer to the proposal by name and/or OMB Control number and sent to: Colette Pollard, Departmental Reports Management Officer, QDAM, Department of Housing and Urban Development, 451 7th Street SW., Room 4178, Washington, DC 20410-5000; telephone (202) 402-3400 (this is not a toll-free number) or email Ms. Pollard at Collette.Pollard@hud.gov for a copy of the proposed forms or other available information. Persons with hearing or speech impairments may access this number via TTY by calling the Federal Information Relay Service at (800) 877-8339.

FOR FURTHER INFORMATION CONTACT: Arlette Mussington, Office of Policy, Programs and Legislative Initiatives, PIH, Department of Housing and Urban Development, 451 7th Street SW., (L'Enfant Plaza, Room 2206), Washington, DC; telephone (202) 402-4109, for copies of other available documents (this is not a toll-free number).

SUPPLEMENTARY INFORMATION: The Department will submit the proposed information collection to the Office of Management and Budget (OMB) for review, as required by the Paper Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This notice also lists the following information:

Title of Proposal: Enterprise Income Verification (EIV) System Access Authorization Form and Rules of Behavior and User Agreement.

OMB Control Number: 2577-0267.

Description of the need for the information and proposed use: In accordance with statutory requirements at 5 U.S.C. 552a, as amended (most commonly known as the Federal Privacy Act of 1974), the Department is required to account for all disclosures of information contained in a system of records. Specifically, the Department is required to keep an accurate accounting of the name and address of the person or agency to which the disclosure is made. The Enterprise Income Verification (EIV) System (HUD/PIH-5) is classified as a System of Records, as initially published on July 20, 2005, in the Federal Register at page 41780 (70 FR 41780) and amended and published on August 8, 2006, in the Federal Register at page 45066 (71 FR 45066).

As a condition of granting HUD staff and staff of processing entities with access to the EIV system, each prospective user of the system must (1) request access to the system; (2) agree to comply with HUD's established rules of behavior; and (3) review and signify their understanding of their responsibilities of protecting data protected under the Federal Privacy Act (5 U.S.C. 552a, as amended). As such, the collection of information about the user and the type of system access required by the prospective user is required by HUD to: (1) Identify the user; (2) determine if the prospective user in fact requires access to the EIV system and in what capacity; (3) provide the prospective user with information related to the Rules of Behavior for system usage and the user's responsibilities to safeguard data accessed in the system once access is granted; and (4) obtain the signature of the prospective user to certify the user's understanding of the Rules of Behavior and responsibilities associated with his/her use of the EIV system.

HUD collects the following information from each prospective user: Public Housing Agency (PHA) code, organization name, address, prospective user's full name, HUD-assigned user ID, position title, telephone number, facsimile number, type of work which involves the use of the EIV system, type of system action requested, requested access roles to be assigned to prospective user, public housing development numbers to be assigned to prospective PHA user, and prospective user's signature and date of request. The information is collected electronically and manually (for those who are unable to transmit electronically) via a PDF-fillable or Word-fillable document, which can be emailed, faxed or mailed to HUD.

If this information is not collected, the Department will not be in compliance with the Federal Privacy Act and be subject to civil penalties.

Agency Form Numbers: Form HUD 52676 and 52676-I.

Members of Affected Public: Employees of state or local government, public housing agencies (PHAs), and staff of PHA-hired management agents.

Estimation of the Total number of hours needed to prepare the information collection including number of respondents, frequency of response, and hours of response: The estimated number of respondents annually is 13,107, including respondents who are new users of the EIV system, those who will be users of EIV data only, and respondents who are changing user roles in the EIV system. The average time for each respondent who is new user of the system or user of the data only is 1 hour per response and the average time for each respondent who is changing roles in the system is .25 hours, for a total burden of 10,736 hours.

Status of the Proposed Information Collection: Renewal.

Authority: The Paperwork Reduction Act of 1995, 44 U.S.C. Chapter 35, as amended.

Dated: March 19, 2013.
Merrie Nichols-Dixon,
Deputy Director for Policy, Program and Legislative Initiatives.

[FR Doc. 2013-06830 Filed 3-25-13; 8:45 am]

BILLING CODE 4210-67-P